DEPARTMENT OF COMMERCE

International Trade Administration; Survey of International Air Travelers; Proposed Collection; Comment Request

SUMMARY: The Department of Commerce, as part of its continuing effort to reduce paperwork and respondent burden, invites the general public and other Federal agencies to take this opportunity to comment on the continuing information collections, as required by the Paperwork Reduction Act of 1995, Public Law 104-13 (44 U.S.C. 3506(c)(2)(A)).

DATES: Written comments must be submitted on or before April 25, 2005.

ADDRESSES: Direct all written comments to Diana Hynek, Departmental Paperwork Clearance Officer, Department of Commerce, Room 6625, 14th & Constitution Avenue, NW., Washington, DC 20230 or via the Internet at dHynek@doc.gov.

FOR FURTHER INFORMATION CONTACT: Requests for additional information or copies of the information collection instrument and instructions should be directed to: Richard Champley or Ron Erdmann, ITA's Office of Travel & Tourism Industries, Room 7025, 1401 Constitution Ave, NW., Washington, DC 20230; phone: (202) 482-0140, and fax: (202) 482-2887. E-Mail: Richard_Champley@ita.doc.gov or to: Ron_Erdmann@ita.doc.gov. To learn more about the this research program, visit OTTI's Web site at: http://www.tinet.ita.doc.gov/research/programs/ifs/index.html.

SUPPLEMENTARY INFORMATION:

I. Abstract

The “Survey of International Air Travelers” program, administered by the Office of Travel & Tourism Industries (OTTI) of the International Trade Administration, provides the sole source of the data needed to estimate international travel and passenger fare exports and imports, i.e., trade balance, for the United States. This Survey program supports the U.S. Department of Commerce, Bureau of Economic Analysis' (BEA) mandate to collect, analyze and report information used to calculate the Gross Domestic Product (GDP) and the Travel & Tourism Satellite Account for the United States. The Survey program contains the core data that is analyzed and communicated by OTTI with other government agencies, associations and businesses that share the same objective to increase U.S. international travel exports. To assist OTTI assesses the economic impact of international travel on state and local economies, provides visitation estimates, and identifies traveler and trip characteristics. The U.S. Department of Commerce assists travel industry businesses seeking to develop target marketing to increase international travel and passenger fare exports for the country as well as outbound travel. The Survey program provides the only estimates of nonresident visitation to the states and cities within the U.S., as well as U.S. resident travel abroad.

II. Method of Collection

The collection is on U.S. and foreign flag airlines that voluntarily agree to allow us to survey their passengers on flights departing from the U.S. Additional surveys are also collected at U.S. departure airports.

III. Data

OMB Number: 0625-0227.

Form Number: N/A.

Type of Review: Regular submission.

Affected Public: International travelers, both U.S. and non-U.S. residents, 18 years or older, departing the United States for all countries except Canada

Estimated Number of Respondents: 99,360.

Estimated Time per Response: 15 minutes.

Estimated Total Annual Burden Hours: 24,840 hours.

Estimated Total Annual Cost: This is a $2.1 million research program of which the government funds a $1.5 million portion. The remaining funds are obtained from sales of research reports to the public and in-kind contributions from the airlines, airports and other travel industry partners. Respondents will not need to purchase equipment or materials to respond to this collection.

IV. Requested for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology. Comments submitted in response to this notice will be summarized and/or included in the request for OMB approval of this information collection; they also will become a matter of public record.

Dated: February 18, 2005.
Madeleine Clayton,
Management Analyst, Office of the Chief Information Officer.

[FR Doc. E5-755 Filed 2-23-05; 8:45 am]

BILLING CODE 3510-P